DEPARTMENT OF COMMERCE

International Trade Administration

[A-570-909]

Certain Steel Nails From the Peoples' Republic of China: Notice of Extension of Time Limits for the Preliminary Results of the Second Antidumping Duty Administrative Review and New Shipper Review

AGENCY: Import Administration, International Trade Administration, Department of Commerce.

DATES: Effective Date: August 4, 2011.

FOR FURTHER INFORMATION CONTACT: Alexis Polovina, Office 9, AD/CVD Operations, Import Administration, International Trade Administration, U.S. Department of Commerce, 14th Street and Constitution Avenue, NW., Washington, DC 20230; telephone: (202) 482-3927.

Background

On August 2, 2010, the Department published a notice of opportunity to request an administrative review on the antidumping order on certain steel nails from the People's Republic of China (“PRC”) for the period of review (“POR”) August 1, 2009, through July 31, 2010. See Antidumping or Countervailing Duty Order, Finding, or Suspended Investigation; Opportunity To Request Administrative Review, 75 FR 45094 (August 2, 2010). Based upon requests for review from various parties, on September 29, 2010, the Department initiated the first antidumping duty administrative review on certain steel nails from the PRC, covering 222 companies. See Initiation of Antidumping and Countervailing Duty Administrative Reviews and Request for Revocation in Part, 75 FR 60076 (September 29, 2010) (“Initiation Notice”). On April 28, 2011, the Department published a notice of a partial rescission and an extension of the time period for issuing the preliminary results by 90 days, to August 1, 2011. See Certain Steel Nails From the Peoples' Republic of China: Notice of Extension of Time Limits and Partial Rescission of the Second Antidumping Duty Administrative Review, 76 FR 23788 (April 28, 2011). On July 11, 2011, in accordance with 19 CFR 351.214(j), we aligned the concurrent new shipper review of Shanghai Colour Nail Co., Ltd. with the second administrative review.

Statutory Time Limits

Section 751(a)(3)(A) of the Tariff Act of 1930, as amended (“Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of these reviews within the current time limits. The Department requires additional time to analyze recently submitted supplemental questionnaire responses, which contained a significant amount of new sales and factors of production data. The additional time is needed to consider these data and their incorporation into the margin calculations for the individually-reviewed respondents, as well as to consider all of the issues raised by parties during the course of these proceedings. Therefore, the Department is hereby fully extending the time limits for completion of the preliminary results by 30 days. The preliminary results will now be due no later than August 31, 2011. The final results continue to be due 120 days after the publication of the preliminary results.

This notice is published in accordance with section 777(i)(1) of the Act.

Dated: July 28, 2011.
Gary Taverman,
Acting Deputy Assistant Secretary for Antidumping and Countervailing Duty Operations.

[FR Doc. 2011-19704 Filed 8-3-11; 8:45 am]

BILLING CODE 3510-DS-P